DEPARTMENT OF LABOR

Employment and Training Administration

[TA-W-54,555]

Time Square Development Corporation, D/B/A Time Square Clothing, Los Angeles, CA; Notice of Termination of Investigation

Pursuant to section 221 of the Trade Act of 1974, as amended, an investigation was initiated on March 22, 2004 in response to a petition filed by a One Stop Coordinator on behalf of the workers of Time Square Development Corporation, d/b/a Time Square Clothing, Los Angeles, California

The investigation revealed that the subject facility did not separate or threaten to separate a significant number or proportion of workers as required by section 222 of the Trade Act of 1974. Significant number or proportion of the workers means that at least three workers in a firm with a workforce of fewer than 50 workers would have to be affected. Separations by the subject firm did not meet this threshold level; consequently the investigation has been terminated.

Signed at Washington, DC this 10th day of May 2004.
Richard Church,
Certifying Officer, Division of Trade Adjustment Assistance.

[FR Doc. 04-12644 Filed 6-3-04; 8:45 am]

BILLING CODE 4510-30-P